DEPARTMENT OF HOMELAND SECURITY

Office of the Secretary

8 CFR Part 274

19 CFR Part 162

[USCBP-2006-0122; CBP Dec. 10-24]

RIN 1651-AA58

Administrative Process for Seizures and Forfeitures Under the Immigration and Nationality Act and Other Authorities

AGENCY: Office of the Secretary, DHS.

ACTION: Final rule.

SUMMARY: On February 19, 2008, the Department of Homeland Security issued an interim final rule that consolidated the asset seizure and forfeiture procedures for customs and immigration purposes. The interim final rule primarily aligned forfeiture procedures to allow petitioners to seek remission of seized property before the completion of the forfeiture process. The interim final rule also made technical and conforming changes to update the regulations. This final rule adopts, without change, the interim final rule.

DATES: This final rule is effective June 30, 2010.

FOR FURTHER INFORMATION CONTACT: For CBP: Charles Ressin, Penalties Branch, U.S. Customs and Border Protection (202) 325-0050. For ICE: Jason J. Johnsen, Writer/Editor, Office of Policy, U.S. Immigration and Customs Enforcement, (202) 732-4245.

SUPPLEMENTARY INFORMATION:

Background

On November 25, 2002, the President signed into law the Homeland Security Act of 2002, Public Law 107-296, 116 Stat. 2135 (HSA). As a result, on March 1, 2003, the former Immigration and Nationalization Service (INS) of the Department of Justice and the former U.S. Customs Service of the Department of the Treasury were transferred to the Department of Homeland Security (DHS) and reorganized to become the U.S. Citizenship and Immigration Services (USCIS), the Bureau of Immigration and Customs Enforcement (ICE), and the Bureau of Customs and Border Protection (CBP).¹

¹ DHS subsequently changed the name of the Bureau of Customs and Border Protection to U.S. Customs and Border Protection, and the Bureau of Immigration and Customs Enforcement to U.S. Immigration and Customs Enforcement on March 31, 2007 (see 72 FR 20131, dated April 23, 2007).

After passage of the HSA, both CBP and ICE retained authority to perform asset seizures and forfeitures under the provisions of 8 CFR part 274 and 19 CFR parts 162 and 171. For the purpose of improved efficiency, DHS consolidated the processing of asset forfeitures into CBP's operations. The regulations in titles 8 and 19, however, provided two different procedures. Pursuant to the provisions of section 618 of the Tariff Act of 1930, as amended (19 U.S.C. 1618), petitions for remission of forfeitures were accepted by CBP prior to initiation of any administrative or judicial forfeiture process. In contrast, the regulations adopted under section 274(b) of the Immigration and Nationality Act of 1952, as amended (8 U.S.C. 1324(b) (INA)), provided that the remission or mitigation of such forfeitures could occur only after completion of the forfeiture process despite the fact that this restriction was not imposed by statute.

Interim Final Rule

On February 19, 2008, DHS issued an interim final rule amending DHS regulations to consolidate the procedures for processing administrative seizures and forfeitures and to make technical and conforming changes to the regulations. The interim final rule was published in the Federal Register at 73 FR 9010. Specifically, the interim final rule revised the text of 8 CFR 274.1 to provide that all seizures and forfeitures will be administered in accordance with 19 CFR parts 162 and 171. As a result, the procedures previously used for immigration-related forfeitures were eliminated and all asset forfeiture proceedings are now conducted under a consolidated procedure. The change permits CBP to entertain petitions for remission and return of seized property prior to completing the forfeiture process, regardless of whether the seizure was made under customs or immigration laws, and regardless of whether it was made by CBP or ICE. Additionally, the interim final rule revised the text of 8 CFR 274.2 to provide the Chief, Office of Border Patrol or his designees, with the same powers that are provided to Fines, Penalties and Forfeitures Officers in 19 CFR parts 162 and 171, for purposes of administering seizures and forfeitures made by Border Patrol Officers.

The interim final rule also amended the text of 19 CFR sections 162.21, 162.91, and 162.92 by replacing outdated references to Customs, the Customs Service, or legacy Customs officials with updated references to CBP, ICE, or the appropriate CBP or ICE officials. Additionally, the reference to section 460 of the Tariff Act of 1930, as amended (19 U.S.C. 1460) was removed from 19 CFR 162.22 (d) because it had been repealed by Public Law 99-570, title III, section 3115(b), Oct. 27, 1986, 100 Stat. 3207-82 and the paragraphs of section 162.22 were redesignated accordingly.

The interim final rule requested public comments. The prescribed comment period closed on April 21, 2008. Only one comment was received and its contents were beyond the scope of the interim final rule.

Conclusion

Accordingly, this rule adopts as a final rule, without change, the interim final rule published on February 19, 2008.

Administrative Procedure Act

This rule is procedural in nature and does not alter the substantive rights of the affected parties. Therefore, this rule is exempt from the public notice and comment requirements pursuant to 5 U.S.C. 553(b)(A). In addition, since this final rule adopts without change an interim final rule, which has been in effect since February 19, 2008, the delayed effective date requirement under 5 U.S.C. 553(d) is unnecessary and does not apply.

Regulatory Requirements

Executive Order 12866

This rule is not a significant regulatory action under Executive Order 12866.

Regulatory Flexibility Act

Because a notice of proposed rulemaking was not required for this rule, the provisions of the Regulatory Flexibility Act (5 U.S.C. 601 et seq.) do not apply.

Paperwork Reduction Act

DHS has determined that the collection of information required by this rule falls under the “administrative exception” to the Paperwork Reduction Act of 1995 (44 U.S.C. 3501 et seq.). The “administrative exception,” applies because any such collection is made during the conduct of administrative action taken by an agency against specific individuals or entities. 5 CFR 1320.4(a)(2).

Signing Authority

The authority to prescribe regulations to administer and enforce the immigration laws was transferred by the Homeland Security Act to the Secretary of Homeland Security. The signing authority for these amendments, therefore, falls under 8 CFR 2.1.

List of Subjects

8 CFR Part 274

Administrative practice and procedure, Seizures and forfeitures, Conveyances.

19 CFR Part 162

Administrative practice and procedure, Customs duties and inspection, Law enforcement, Penalties, Prohibited merchandise, Reporting and recordkeeping requirements, Seizures and forfeitures.

Amendments

Accordingly, the interim final rule amending part 274 of title 8 of the Code of Federal Regulations (8 CFR part 274) and part 162 of title 19 of the Code of Federal Regulations (19 CFR part 162), which was published in the Federal Register at 73 FR 9010 on February 19, 2008, is adopted as a final rule without change.

Dated: June 22, 2010.
Janet Napolitano,
Secretary.

[FR Doc. 2010-15580 Filed 6-29-10; 8:45 am]

BILLING CODE 9111-14-P